DEPARTMENT OF COMMERCE

International Trade Administration

[A-570-898]

Chlorinated Isocyanurates From the People's Republic of China: Initiation of New Shipper Review

AGENCY: Import Administration, International Trade Administration, Department of Commerce.

SUMMARY: The Department of Commerce (the Department) has received a timely request for a new shipper review of the antidumping duty order on chlorinated isocyanurates (chlorinated isos) from the People's Republic of China (PRC). The Department determines that the request is sufficient to meet the statutory and regulatory requirements for initiation. The period of review for the new shipper review is June 1, 2011, through February 29, 2012.

DATES: Effective Date: January 31, 2012.

FOR FURTHER INFORMATION CONTACT: Andrew Huston, AD/CVD Operations, Office 6, Import Administration, International Trade Administration, U.S. Department of Commerce, 14th Street and Constitution Avenue NW., Washington, DC 20230; telephone: (202) 482-4261.

SUPPLEMENTARY INFORMATION:

Background

The antidumping duty order on chlorinated isos from the PRC was published on June 24, 2005. See Notice of Antidumping Duty Order: Chlorinated Isocyanurates from the People's Republic of China, 70 FR 36561 (June 24, 2005). On December 30, 2011, the Department received a timely request for a new shipper review from Puyang Cleanway Chemicals Ltd. (Puyang Cleanway) in accordance with 19 CFR 351.214(c) and 19 CFR 351.214(d).

Pursuant to the requirements set forth in 19 CFR 351.214(b)(2), in its request for a new shipper review, Puyang Cleanway certified that: (1) It did not export chlorinated isos to the United States during the period of investigation (POI); (2) since the initiation of the investigation, it has never been affiliated with any company that exported subject merchandise to the United States during the POI, including any exporter or producer not individually examined during the investigation; and (3) its export activities are not controlled by the central government of the PRC. In accordance with 19 CFR 351.214(b)(2)(iv), Puyang Cleanway submitted documentation establishing the following: (1) The date on which it first shipped chlorinated isos for export to the United States and the date on which chlorinated isos was first entered, or withdrawn from warehouse, for consumption; (2) the volume of the first shipment; (3) the date of the first sale to an unaffiliated customer in the United States; and (4) the volume of subsequent shipments of chlorinated isos.

Period of Review

Usually, in accordance with 19 CFR 351.214(g)(1)(i)(B), the period of review (POR) for new shipper reviews initiated in the month immediately following the semi-annual anniversary month will be the six-month period immediately preceding the semiannual anniversary month (in this instance, June 1, 2011, through November 30, 2011). Puyang Cleanway's first sale of subject merchandise was sold two months before, and entered one month before, the POR specified by the Department's regulations for a semi-annual new shipper review. Puyang Cleanway's request for a new shipper review was within one year of this first sale, making its request timely under 19 CFR 351.214(c). Its second sale, which took place during the POR, had not yet entered as of the issuance of this notice. The Department has in the past extended a POR forward to capture entries for sales made during the POR that had not yet entered during the POR specified by the Department's regulations.¹ Therefore, consistent with 19 CFR.214(f)(2)(ii), the Department is extending the POR for the new shipper review forward by the time necessary for Puyang Cleanway to enter the second sale, but not past February 29, 2012. If the second sale has not yet entered by February 29, 2012, the Department intends to rescind this new shipper review.

¹ See, e.g., Chlorinated Isocyanurates From the People's Republic of China: Initiation of New Shipper Review, 76 FR 6399 (February 4, 2011).

Initiation of New Shipper Review

Pursuant to section 751(a)(2)(B) of the Tariff Act of 1930, as amended (the Act), and 19 CFR 351.214(b), we find that the request submitted by Puyang Cleanway meets the threshold requirements for initiation of a new shipper review for shipments of chlorinated isos from the PRC. See Memorandum to the File through Barbara E. Tillman, Director, AD/CVD Operations, Office 6, “Initiation of Antidumping New Shipper Review: Chlorinated Isocyanurates from the People's Republic of China (A-570-898),” dated concurrently with this notice.

The Department will conduct the review according to the deadlines set forth in section 751(a)(2)(B)(iv) of the Act and 19 CFR 351.214(i). It is the Department's practice, in cases involving non-market economies, to require that a company seeking to establish eligibility for an antidumping duty rate separate from the country-wide rate provide evidence of de jure and de facto absence of government control over the company's export activities. Accordingly, we will issue a questionnaire to Puyang Cleanway, which will include a separate rate section. The review will proceed if the response provides sufficient indication that Puyang Cleanway is not subject to either de jure or de facto government control with respect to the export of chlorinated isos. We will instruct U.S. Customs and Border Protection to allow, at the option of the importer, the posting, until the completion of the review, of a bond or security in lieu of a cash deposit for each entry of the subject merchandise from Puyang Cleanway in accordance with section 751(a)(2)(B)(iii) of the Act and 19 CFR 351.214(e).

Interested parties requiring access to proprietary information in this new shipper review should submit applications for disclosure under administrative protective order in accordance with 19 CFR 351.305 and 351.306.

This initiation and notice are in accordance with section 751(a)(2)(B) of the Act and 19 CFR 351.214 and 351.221(c)(1)(i).

Dated: January 31, 2012.
Christian Marsh,
Deputy Assistant Secretary for Antidumping and Countervailing Duty Operations.

[FR Doc. 2012-2648 Filed 2-3-12; 8:45 am]

BILLING CODE 3510-DS-P